DEPARTMENT OF THE INTERIOR

Fish and Wildlife Service

Reopening the Comment Period for an Application for a Permit

AGENCY: Fish and Wildlife Service, Interior.

ACTION: Notice of Reopening of the Comment Period for Endangered Species Permit Application PRT-052166.

SUMMARY: The Fish and Wildlife Service is reopening the comment period for the application cited below. The applicant has submitted new information in support of the application and the reopening of the comment period will allow all interested parties another 15 days to review the application and provide us with any additional comments.

DATES: Written data, comments or requests must be received by March 11, 2003.

ADDRESSES: Documents and other information submitted with this application are available for review, subject to the requirements of the Privacy Act and Freedom of Information Act, by any party who submits a written request for a copy of such documents within 15 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION: The Fish and Wildlife Service is re-opening the comment period for an application submitted by the Memphis Zoo, Memphis, Tennessee, PRT-052166, to conduct certain activities with endangered species. Specifically, the applicant requests a permit to import one male and one female captive born giant panda (Ailuropoda melanoleuca) from the Chinese Association of Zoological Gardens, Shanghai Zoo and Beijing Zoo, China, for the purpose of scientific research and enhancement of the survival of the species. The application was submitted to satisfy the requirements of the Endangered Species Act of 1973, as amended (16 U.S.C. 1531, et seq.). A notice of receipt of this application for a permit was published in the Federal Register on November, 21, 2002 (67 FR 70236). The comment period closed on December 23, 2002. On January 28, 2003, the applicant submitted additional information in support of the application. While the Service does not consider the new information significant, we are reopening the comment period to allow all interested parties to review the new information and provide us with any additional comments regarding the application. Written data, comments, or requests for copies of this complete application should be submitted to the Director (address above).

The U.S. Fish and Wildlife Service has information collection approval from OMB through March 31, 2004, OMB Control Number 1018-0093. Federal Agencies may not conduct or sponsor and a person is not required to respond to a collection of information unless it displays a current valid OMB control number.

Dated: February 10, 2003.
Timothy J. Van Norman,
Chief, Branch of Permits—(International), Division of Management Authority.

[FR Doc. 03-4304 Filed 2-21-03; 8:45 am]

BILLING CODE 4310-55-P